DEPARTMENT OF HEALTH AND HUMAN SERVICES

National Institutes of Health

Center for Scientific Review; Amended Notice of Meeting

Notice is hereby given of a change in the meeting of the Instrumentation and Systems Development Study Section, February 12, 2007, 8:30 a.m. to February 14, 2007, 5 p.m., Marriott Courtyard, 13480 Maxella Avenue, Marina Del Rey, CA, 90043 which was published in the Federal Register on December 14, 2006, 71 FR 75266-75268.

The meeting will be held February 12, 2007, to February 13, 2007. The meeting time and location remain the same. The meeting is closed to the public.

Dated: December 21, 2006.
Anna Snouffer,
Acting Director, Office of Federal Advisory Committee Policy.

[FR Doc. 06-9949 Filed 12-29-06; 8:45 am]

BILLING CODE 4140-01-M